FEDERAL COMMUNICATIONS COMMISSION

Radio Broadcasting Services; AM or FM Proposals To Change The Community of License

AGENCY: Federal Communications Commission.

ACTION: Notice.

SUMMARY: The following applicants filed AM or FM proposals to change the community of license: CEDAR COVE BROADCASTING, INC., Station KGQD, Facility ID 175363, BMPED-20100510ABP, From FRASER, CO, To SILVERTHORNE, CO; CHURCH PLANTERS OF AMERICA, Station NEW, Facility ID 173562, BMPED-20100426ADA, From DANBURY, NC, To MADISON, NC; ENTERPRISE COPORATION OF THE DELTA, Station NEW, Facility ID 175323, BMPED-20100412ACA, From DELHI, LA, To LAKE PROVIDENCE, LA; ENTERTAINMENT MEDIA TRUST, DENNIS J. WATKINS, TRUSTEE, Station WQQW, Facility ID 90598, BP-20100510ATN, From HIGHLAND, IL, To BELLEVILLE, IL; FULLER BROADCASTING INTERNATIONAL, LLC, Station WWRX, Facility ID 58731, BPH-20100426ADS, From PAWCATUCK, CT, To LEDYARD, CT; JODESHA BROADCASTING, INC., Station KLSY, Facility ID 166011, BPH-20100406AAZ, From SOUTH BEND, WA, To COSMOPOLIS, WA; MOUNT WILSON FM BROADCASTERS, INC., Station NEW, Facility ID 183344, BNPH-20091019ABE, From RIDGECREST, CA, To JOHNANNESBURG, CA; MULTICULTURAL RADIO BROADCASTING LICENSEE, LLC, Station KAHZ, Facility ID 61814, BMJP-20100504ALA, From POMONA, CA, To YORBA LINDA, CA; NORTHEASTERN PENNSYLVANIA EDUCATIONAL TELEVISION ASSOCIATION, Station NEW, Facility ID 177089, BMPED-20100407AAB, From SYLVANIA, PA, To MAINESBURG, PA; PERCEPTION MEDIA, INC., Station WOWZ, Facility ID 8075, BP-20100510AKO, From APPOMATTOX, VA, To ROANOKE, VA; RED WOLF BROADCASTING CORPORATION, Station WBMW, Facility ID 55404, BPH-20100426ADR, From LEDYARD, CT, To PAWCATUCK, CT; ROBERT CLINT CRAWFORD D/B/A SOUTHWEST RADIO BROADCASTING, Station KKLB, Facility ID 166036, BPH-20100414AAW, From MADISONVILLE, TX, To KURTEN, TX; THE ALAMO NAVAJO SCHOOL BOARDS, INC., Station KABR, Facility ID 65389, BP-20100222ADG, From ALAMO COMMUNITY, NM, To ISLETA, NM; WESTPORT RADIO PARTNERS, LLC, Station WXMR, Facility ID 166029, BMPH-20100407ACA, From MINERVA, NY, To PLATTSBURGH WEST, NY.

DATES: Comments may be filed through August 2, 2010.

ADDRESSES: Federal Communications Commission, 445 Twelfth Street, SW., Washington, DC 20554.

FOR FURTHER INFORMATION CONTACT: Tung Bui, 202-418-2700.

SUPPLEMENTARY INFORMATION: The full text of these applications is available for inspection and copying during normal business hours in the Commission's Reference Center, 445 12th Street, SW., Washington, DC 20554 or electronically via the Media Bureau's Consolidated Data Base System, http://svartifoss2.fcc.gov/prod/cdbs/pubacc/prod/cdbs_pa.htm. A copy of this application may also be purchased from the Commission's duplicating contractor, Best Copy and Printing, Inc., 445 12th Street, SW., Room CY-B402, Washington, DC, 20554, telephone 1-800-378-3160 or http://www.BCPIWEB.com.

Federal Communications Commission.
James D. Bradshaw,
Deputy Chief, Audio Division, Media Bureau.

[FR Doc. 2010-13383 Filed 6-2-10; 8:45 am]

BILLING CODE 6712-01-P